DEPARTMENT OF THE INTERIOR

Bureau of Reclamation

California Bay-Delta Public Advisory Committee Public Meeting Cancellation

AGENCY: Bureau of Reclamation, Interior.

ACTION: Notice of meeting cancellation.

SUMMARY: The California Bay-Delta Public Advisory Committee meeting noticed in the Federal Register on June 15, 2006 (71 FR 34643) has been cancelled. The subject meeting will be rescheduled at a later date which is yet to be determined.

DATES: The meeting was scheduled for Thursday, July 13, 2006, from 9 a.m. to 4 p.m.

FOR FURTHER INFORMATION CONTACT: Diane Buzzard, U.S. Bureau of Reclamation, at 916-978-5022 or Julie Alvis, California Bay-Delta Authority, at 916-445-5551.

Dated: June 20, 2006.
Diane A. Buzzard,
Acting Special Projects Officer, Mid-Pacific Region, U.S. Bureau of Reclamation.

[FR Doc. 06-5701 Filed 6-26-06; 8:45 am]

BILLING CODE 4310-MN-M